DEPARTMENT OF AGRICULTURE

Forest Service

Lewis and Clark National Forest, Montana, Castle Mountains Restoration Project

AGENCY: Forest Service, USDA.

ACTION: Notice of intent to prepare an environmental impact statement.

SUMMARY: The Lewis and Clark National Forest (LCNF) is going to prepare an environmental impact statement for vegetation management actions in the Castle Mountains located in Central Montana. The project is designed to meet the desired condition of restoring forest and grasslands ecosystems to promote landscape resiliency over time for multiple resource values while minimizing the threat of high intensity wildfire within the Willow Creek municipal watershed and areas of other valued resources and infrastructure in the 69,610 acre Castle Mountains landscape.

DATES: Comments concerning the scope of the analysis must be received by March 23, 2015. The draft environmental impact statement is expected September 2015 and the final environmental impact statement is expected March 2016.

ADDRESSES: Send written comments to Carol Hatfield White Sulphur Springs District Ranger, Lewis & Clark National Forest, 204 W. Folsom, P.O. Box A, White Sulphur Springs, MT 59645. Comments may also be sent via email to comments-northern-lewisclark-white-sulphur-sprg@fs.fed.us, or via facsimile to 406-547-6023.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: John Casselli Project Team Lead, at 406-791-7723. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the project is to move toward a resilient forest and grassland ecosystem that will mimic a more historic natural fire regime to reduce the future threat of high intensity wildfire and the associated hazards to life, valued resources and infrastructure. In order to achieve this, there is a need to create a mosaic of vegetation and fuel structure more resilient to disturbance over time that includes improving the overall diversity in age classes, species, and meadow openings across the landscape. The action will provide for safer, more effective fire suppression actions when needed, reduce threats to forest users, to private residences, power corridors, agency infrastructure, water quality of Willow Creek and to valued wildlife habitat. These actions will reduce the probability of post-wildfire watershed impacts to the Willow Creek municipal watershed and associated costs.

Proposed Action

Approximately 22,124 acres are proposed for treatment which includes a combination of fuels reduction thinning, commercial harvest of trees, non-commercial thinning, and prescribed fire. Mechanical and/or hand treatment methods would be used to accomplish the treatment objectives. Proposed treatment activities include: roughly 1,911 acres of Improvement Thinning; 7,329 acres of Prescribed Fire; 313 acres of Aspen Restoration; 277 acres of Precommercial Thinning; 856 acres of White Bark Pine Restoration; 8,681 acres of meadow Restoration; 1,519 acres of Douglas-fir Thinning; and 1,236 acres of Lodgepole Pine regeneration harvest. There would be up to 57 miles of temporary road utilized for the project with approximately 20 miles of this occurring over existing road prisms. Road maintenance or reconstruction of existing system roads to meet forestry best management practices would be necessary to implement the proposed action. No new permanent roads will be constructed. Temporary roads not on the forest road system that are utilized will be obliterated (stabilized and or restored to natural contours) upon completion of treatment operations. Roads identified in the 2007 Travel Management Record of Decision that were removed from the road system (decommissioned) would be physically stabilized or re-contoured as needed to meet the resource objectives of travel management. Site-specific amendments to the Lewis and Clark National Forest Plan standards pertaining to elk hiding cover, elk winter range, and elk thermal cover may be necessary in order to meet the project's purpose and need. To address potential impacts of proposed management activities on cheatgrass (Bromus tectorum) in meeting the project objectives, the proposal includes an integrated management approach to control the establishment and spread of this invasive grass species. The use of applicable EPA approved selective herbicides and or biological controls would be utilized in units having prescribed burning as the treatment action. Approximately 42 percent (29,498 acres) of the total project area is located within the Castles Mountains Inventoried Roadless Area (IRA). Proposed treatment activities on approximately 6,262 acres are planned within the IRA. A combination of non-commercial vegetation treatments and prescribed fire techniques are proposed. Under the proposal, road maintenance may occur but no road construction, reconstruction of system or temporary roads are planned within the IRA. The location of this project area is those sections of the Castle Mountains within the National Forest Boundary; Township 8 and 9 N, Range 8, 9 and 10 E. Principle Meridian, Meagher County, Montana.

Responsible Official

Helena and Lewis & Clark National Forests Forest Supervisor.

Nature of Decision To Be Made

The decisions to be made include: Whether to implement the proposed action or an alternative to the proposed action, what monitoring requirements would be appropriate to evaluate the implementation of this project, the timing of the project and whether a forest plan site specific amendment (exemption) would be necessary as a result of the decision for this project.

Scoping Process

This notice of intent initiates the scoping process, which guides the development of the environmental impact statement. In February 2015, a scoping notice (flyer) will be mailed to interested and affected parties directing them to the project's information which will be posted to the Lewis and Clark National Forest's projects Web page (http://www.fs.usda.gov/lcnf/). The Web page will contain detailed project information, including when public meetings will be scheduled, project proposal maps, and other pertinent project information.

It is important that reviewers provide their comments at such times and in such manner that they are useful to the agency's preparation of the environmental impact statement. Therefore, comments should be provided prior to the close of the comment period and should clearly articulate the reviewer's concerns and contentions. The submission of timely and specific comments can affect a reviewer's ability to participate in the administrative objection process or any judicial review.

Dated: February 11, 2015.
Robin Strathy,
Deputy Forest Supervisor.

[FR Doc. 2015-03466 Filed 2-18-15; 8:45 am]

BILLING CODE 3410-15-P